DEPARTMENT OF LABOR

Employment and Training Administration

Change of Address for the National Prevailing Wage Center: Prevailing Wage Determination Requests for Use in the E-3, H-1B, H-1B1, H-2B, and Permanent/“Green Card” Visa Programs

AGENCY: Employment and Training Administration, Department of Labor.

ACTION: Notice.

SUMMARY: The Department of Labor (Department) is providing notice that the Office of Foreign Labor Certification's National Prevailing Wage Center, responsible for the processing of prevailing wage determination requests for use in the E-3 (Australia), H-1B, H-1B1 (Chile/Singapore), H-2B, and the permanent/“green card” visa programs is relocating within Washington, DC effective on January 11, 2016.

DATES: Effective Date: This notice is effective on January 11, 2016.

FOR FURTHER INFORMATION CONTACT: William W. Thompson, II, Acting Administrator, Office of Foreign Labor Certification, U.S. Department of Labor, 200 Constitution Avenue NW., Box 12-200, Washington, DC 20210-0001; Telephone: (202) 513-7350 (this is not a toll-free number).

SUPPLEMENTARY INFORMATION:

I. Background

The Immigration and Nationality Act (INA) assigns specific responsibilities to the U.S. Secretary of Labor for the administration of certain employment-based immigration programs that require a labor certification, a labor condition application, or a labor attestation (LCA). In the case of a labor certification, these statutory responsibilities include, determining that there are not able, willing, qualified and available U.S. workers for a position and location for which certification is being requested, and that the employment of the foreign worker(s) will not have an adverse impact on similarly employed U.S. workers.

Employers seeking to hire foreign workers in the D-1, E-3, H-1B, H-1B1, H-2A, H-2B, or the permanent/“green card” visa programs must first apply to the Secretary of Labor to obtain a labor certification or for the approval of a labor condition application, or a labor attestation. The Secretary has delegated the responsibilities for the administration of these programs to the Employment and Training Administration's (ETA) Office of Foreign Labor Certification (OFLC).

Before obtaining a certification from the Department, most employers must first obtain a Prevailing Wage Determination (PWD) for the appropriate occupation and area of intended employment from OFLC. Since January 1, 2010, the receipt and processing of PWD requests for use in the E-3, H-1B, H-1B1, H-2B, and the permanent/“green card” programs has been centralized in OFLC's National Prevailing Wage Center (NPWC) in Washington, DC.

The purpose of this Notice is to inform the public that the NPWC is relocating within Washington, DC and provide a new mailing address.

II. NPWC Address

Old Address: U.S. Department of Labor, Employment and Training Administration, Office of Foreign Labor Certification, National Prevailing Wage Center, 1341 G Street, Suite 201, NW., Washington, DC 20005-3105; Telephone: (202) 693-8200; Facsimile (202) 693-8260.

New Address: U.S. Department of Labor, Employment and Training Administration, Office of Foreign Labor Certification, National Prevailing Wage Center, 200 Constitution Avenue NW.; Room N-5311, Washington, DC 20210; Telephone: (202) 693-8200; Facsimile (202) 693-8260.

The NPWC is fully operational at the new address on January 11, 2016. Affected stakeholders should direct any mailed correspondence addressed to the NPWC at the new address on and after January 11, 2015. Currently, the vast majority of PWD requests and related correspondence are submitted electronically to the NPWC. However, to ensure a smooth transition to the new address, the NPWC will rely on the standard United States Postal Service for mail forwarding from the old to the new address after the effective date of this Notice.

III. NPWC Email Help Desk

The change in the physical address for the NPWC will not affect the NPWC Email Help Desk. Members of the public who require technical assistance with PWD requests and/or related matters may continue to direct their inquiries to the National Prevailing Wage Center Help Desk at FLC.PWD@dol.gov.

Portia Wu,
Assistant Secretary, Employment and Training Administration.

[FR Doc. 2016-01848 Filed 2-1-16; 8:45 am]

BILLING CODE 4510-FP-P